FEDERAL COMMUNICATIONS COMMISSION

Notice of Public Information Collection(s) Being Reviewed by the Federal Communications Commission for Extension Under Delegated Authority

December 20, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by March 13, 2006. If you anticipate that you will be submitting comments, but find it difficult to do so within the period of time allowed by this notice, you should advise the contact listed below as soon as possible.

ADDRESSES: You may submit your Paperwork Reduction Act (PRA) comments by e-mail or U.S. postal mail. To submit your comments by e-mail send them to: PRA@fcc.gov. To submit your comments by U.S. mail, mark it to the attention of Judith B. Herman, Federal Communications Commission, 445 12th Street, SW., Room 1-C804, Washington, DC 20554.

FOR FURTHER INFORMATION CONTACT: For additional information about the information collection(s) send an e-mail to PRA@fcc.gov or contact Judith B. Herman at 202-418-0214.

SUPPLEMENTARY INFORMATION: OMB Control No.: 3060-0441.

Title: Section 90.621(b)(4), Selection and Assignment of Frequencies.

Form No.: N/A.

Type of Review: Extension of a currently approved collection.

Respondents: Business or other for-profit, not-for-profit institutions, and state, local or tribal government.

Number of Respondents: 1,000.

Estimated Time per Response: .5 hours for contracted out work; 1.5 hours for in-house staff.

Frequency of Response: On occasion reporting requirement.

Total Annual Burden: 1,500 hours.

Annual Cost Burden: $100,000.

Privacy Act Impact Assessment: N/A.

Needs and Uses: Applicants wishing to locate co-channel systems less than 70 miles from an existing system operating on the same channel may do so upon request. If the requested distance falls within the parameters of the Short-Spacing Separation Table pursuant to the Commission's rules, the applicant must provide certain information about the co-channel stations, but no waiver of the short spacing rules is required. If the request is for distances less than those prescribed in the Short-Spacing Separation Table, a waiver of the short spacing rules is required. Incumbent licensees seeking to utilize an 18 dBu V/M signal strength interference contour (see 47 CFR 90.693), and that are unsuccessful in obtaining the consent of affected co-channel incumbents, may submit to any certified frequency coordinator of 800 MHz band channels, an engineering study showing that interference will not occur, together with proof that the incumbent licensee has sought consent. The incumbent may then provide to the Commission in their modification applications, a statement from a certified frequency coordinator that no harmful interference will occur to a co-channel licensee. The Commission will use the information to determine whether to grant licenses to applicants whose systems do not satisfy mileage separation requirements. Without this information, the Commission would deny the applications. After this 60 day comment period, the Commission will submit this information collection to OMB in order to seek the full three year clearance.

Federal Communications Commission.
Marlene H. Dortch,
Secretary.

[FR Doc. 06-155 Filed 1-10-06; 8:45 am]

BILLING CODE 6712-01-P